DEPARTMENT OF THE INTERIOR

Bureau of Ocean Energy Management

[Docket No. BOEM-2014-0078; MMAA104000]

Outer Continental Shelf, Alaska OCS Region, Chukchi Sea Planning Area, Oil and Gas Lease Sale 193

AGENCY: Bureau of Ocean Energy Management (BOEM), Interior.

ACTION: Notice of Availability of a Final Second Supplemental Environmental Impact Statement.

SUMMARY: BOEM is announcing the availability of a Final Second Supplemental Environmental Impact Statement (SEIS) for the Chukchi Sea Planning Area, Outer Continental Shelf (OCS) Oil and Gas Lease Sale 193 (Lease Sale 193). The Final Second SEIS (OCS EIS/EA BOEM 2014-669) provides new analysis in accordance with the United States District Court for the District of Alaska (District Court) Order remanding Lease Sale 193 to BOEM. The District Court's order instructs BOEM to address the deficiency in the 2007 Final EIS (OCS EIS/EA MMS 2007-026) identified by the U.S. Court of Appeals for the Ninth Circuit (Ninth Circuit). The Ninth Circuit held that the EIS supporting the decision to hold Lease Sale 193 arbitrarily relied on a one billion barrel oil production estimate. The Final Second SEIS provides a revised exploration and development scenario and an accompanying analysis of potential impacts of the proposed action alternatives. The Final Second SEIS identifies Alternative IV (Corridor II Deferral) as BOEM's preferred alternative.

SUPPLEMENTARY INFORMATION: Chukchi Sea OCS Oil and Gas Lease Sale 193 was held in February 2008. The Minerals Management Service (MMS) (predecessor to BOEM) received high bids totaling approximately $2.7 billion and issued 487 leases. The lease sale decision was challenged in the District Court. In 2010, the District Court remanded the case to the agency to remedy deficiencies pertaining to the agency's compliance with the National Environmental Policy Act (NEPA). BOEM released a Final SEIS in August 2011 and the Secretary of the Interior reaffirmed the lease sale in October 2011. In February 2012, the District Court ruled the Department of the Interior had met its NEPA obligations on remand. In April 2012, the plaintiffs appealed the District Court's decision to the Ninth Circuit.

In a January 22, 2014, opinion, the Ninth Circuit found MMS' “reliance in the [2007 Final Environmental Impact Statement] on a one billion barrel estimate of total economically recoverable oil was arbitrary and capricious.” The Ninth Circuit remanded the case to the District Court, which further remanded the matter to BOEM on April 24, 2014.

BOEM has prepared a Final Second SEIS for Lease Sale 193 in accordance with the April 24, 2014, remand order of the District Court. The Final Second SEIS addresses the deficiencies identified in the Ninth Circuit opinion by analyzing the reasonably foreseeable environmental effects of the full range of likely production if oil production were to occur.

The Final Second SEIS is available on BOEM's Web site at http://www.boem.gov/ak193/. In keeping with the Department of the Interior's mission to protect natural resources and to limit costs, while ensuring availability of the document to the public, BOEM will primarily distribute digital copies of the Final Second SEIS on compact discs. BOEM has printed and will be distributing a limited number of paper copies. If requested, BOEM will provide a paper copy if copies are still available. You may request a paper copy by calling (907) 334-5200 or the toll free number at 800-764-2627. BOEM has distributed the Final Second SEIS for viewing at the following libraries in Alaska: Alaska Resources Library and Information Service (Anchorage); University of Alaska Anchorage, Consortium Library; Alaska Pacific University, Academic Support Center Library; University of Alaska Fairbanks, Institute of Arctic Biology; University of Alaska Fairbanks, Elmer E. Rasmuson Library; Nellie Weyiouanna Ilisaavik Library, Shishmaref; Katie Tokienna Memorial Library, Wales; Noel Wien Library, Fairbanks; Kaveolook School Library, Kaktovik; Koyuk City Library; Tikigaq Library, Point Hope; Trapper School Community Library, Nuiqsut; downtown Juneau Public Library; University of Alaska Southeast Library, Juneau; Alaska State Library, Juneau; and Kegoyah Kozga Public Library, Nome.

Authority: This Notice of Availability of the Final Second SEIS is in compliance with NEPA, as amended (42 U.S.C. 4231 et seq.), and is published pursuant to 43 CFR 46.415.

FOR FURTHER INFORMATION CONTACT: Michael Routhier, Program Analysis Officer and Project Manager, BOEM, Alaska OCS Region, 3801 Centerpoint Drive, Suite 500, Anchorage, Alaska 99503-5823 or by telephone at (907) 334-5200.

Dated: February 6, 2015.
Abigail Ross Hopper,
Director, Bureau of Ocean Energy Management.

[FR Doc. 2015-03373 Filed 2-19-15; 8:45 am]

BILLING CODE 4310-MR-P